DEPARTMENT OF COMMERCE

International Trade Administration

Initiation of Antidumping and Countervailing Duty Administrative Reviews and Request for Revocation in Part

Correction

In notice document 2012-26800 appearing on pages 65858-65863 in the issue of Wednesday, October 31, 2012, make the following correction:

On page 65862, in the table, in the second column, in the first entry in that column, “9/1/11-8/31/12” should read “1/1/11-12/31/11”.

[FR Doc. C1-2012-26800 Filed 11-6-12; 8:45 am]

BILLING CODE 1505-01-D